DEPARTMENT OF HOMELAND SECURITY

Federal Emergency Management Agency

[Docket ID FEMA-2015-0020]

Recovery Policy: Stafford Act Section 705, Disaster Grant Closeout Procedures

AGENCY: Federal Emergency Management Agency, DHS.

ACTION: Notice.

SUMMARY: The Federal Emergency Management Agency (FEMA) is accepting comments on Recovery Policy Stafford Act Section 705, Disaster Grant Closeout Procedures.

DATES: Comments must be received by November 2, 2015.

ADDRESSES: Comments must be identified by docket ID FEMA-2015-0020 and may be submitted by one of the following methods:

Federal eRulemaking Portal: http://www.regulations.gov. Follow the instructions for submitting comments. Please note that this proposed policy is not a rulemaking and the Federal Rulemaking Portal is being utilized only as a mechanism for receiving comments.

Mail: Regulatory Affairs Division, Office of Chief Counsel, Federal Emergency Management Agency, 8NE, 500 C Street SW., Washington, DC 20472-3100.

FOR FURTHER INFORMATION CONTACT: Howard Stronach, Public Assistance Division, FEMA, 202-646-3834.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy & Security Notice” link in the footer of www.regulations.gov.

You may submit your comments and material by the methods specified in the ADDRESSES section above. Please submit your comments and any supporting material by only one means to avoid the receipt and review of duplicate submissions.

Docket: The proposed policy is available in docket ID FEMA-2015-0020. For access to the docket to read background documents or comments received, go to the Federal eRulemaking Portal at http://www.regulations.gov and search for the docket ID. Submitted comments may also be inspected at FEMA, Office of Chief Counsel, 8NE, 500 C Street SW., Washington, DC 20472.

II. Background

FEMA is requesting comment on a proposed policy describing FEMA's procedures for implementing section 705 of the Robert T. Stafford Disaster Relief and Emergency Assistance Act. Specifically, it sets forth guidelines FEMA proposes to follow to determine whether section 705(c) applies to bar FEMA from deobligating grant funding. The proposed policy does not have the force or effect of law.

FEMA seeks comment on the proposed policy, which is available online at http://www.regulations.gov in docket ID FEMA-2015-0020. Based on the comments received, FEMA may make appropriate revisions to the proposed policy. Although FEMA will consider any comments received in the drafting of the final policy, FEMA will not provide a response to comments document. When or if FEMA issues a final policy, FEMA will publish a notice of availability in the Federal Register and make the final policy available at http://www.regulations.gov. The final policy will not have the force or effect of law.

Authority: 42 U.S.C. 5205.

Dated: September 25, 2015.
W. Craig Fugate,
Administrator, Federal Emergency Management Agency.

[FR Doc. 2015-24872 Filed 9-29-15; 8:45 am]

BILLING CODE 9111-23-P